DEPARTMENT OF THE INTERIOR

Fish and Wildlife Service

[FWS-R8-R-2013-N087; FXRS12650800000-134-FF08R00000]

Sonny Bono Salton Sea National Wildlife Refuge Complex (Sonny Bono Salton Sea National Wildlife Refuge and Coachella Valley National Wildlife Refuge), Imperial and Riverside Counties, CA; Draft Comprehensive Conservation Plan and Environmental Assessment

AGENCY: Fish and Wildlife Service, Interior.

ACTION: Notice of availability; request for comments.

SUMMARY: We, the U.S. Fish and Wildlife Service (Service), announce the availability of a Draft Comprehensive Conservation Plan (CCP) and Environmental Assessment (EA) for the Sonny Bono Salton Sea National Wildlife Refuge (NWR) Complex, which includes the Sonny Bono Salton Sea NWR and the Coachella Valley NWR. The Draft CCP/EA, prepared under the National Wildlife Refuge System Improvement Act of 1997, and in accordance with the National Environmental Policy Act of 1969, describes how the Service proposes to manage the two Refuges for the next 15 years. A hunt plan, draft compatibility determinations for existing public uses, a draft predator management plan, and a draft integrated pest management plan are also available for review and public comment with the Draft CCP/EA.

DATES: To ensure consideration, we must receive your written comments by August 22, 2013.

ADDRESSES: Send your comments, requests for more information, or requests to be added to the mailing list by any of the following methods.

Email: Victoria_Touchstone@fws.gov. Include “Sonny Bono Salton Sea CCP” in the subject line of the message.

Fax: Attn: Victoria Touchstone, 619-476-9149.

U.S. Mail: Victoria Touchstone, U.S. Fish and Wildlife Service, Refuge Planning, P.O. Box 2358, Chula Vista, CA 91912

In-Person Drop-off: You may drop off comments at the Sonny Bono Salton Sea NWR Office between 8 a.m. to 3 p.m.; please call 760-348-5278 for directions.

FOR FURTHER INFORMATION CONTACT: Victoria Touchstone, Refuge Planner, at 619-476-9150 extension 103, or Chris Schoneman, Project Leader, at 760-348-5278, extension 227. Further information may also be found at http://go.usa.gov/jbhn.

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation.

We initiated the CCP/EA for the Sonny Bono Salton Sea National Wildlife Refuge Complex, which includes the Sonny Bono Salton Sea and Coachella Valley National Wildlife Refuges, in October 2010. At that time and throughout the process, we requested, considered, and incorporated public scoping comments in numerous ways. Our public outreach included a Federal Register notice of intent published on October 15, 2010 (75 FR 63502), two planning updates, and two public scoping meetings. The scoping comment period ended on December 14, 2010. Verbal comments were recorded at public meetings, and written comments were received via letters, emails, and comment cards.

Background

The Sonny Bono Salton Sea NWR was established as a 32,766-acre sanctuary and breeding ground for birds and other wildlife in 1930 (Executive Order 5498). Additional leased lands have been added to the Refuge under the authorities of the Migratory Bird Conservation Act (16 U.S.C. 715d), “for use as an inviolate sanctuary, or for any other management purpose, for migratory birds,” and the Lea Act (16 U.S.C. 695), “for the management and control of migratory waterfowl, and other wildlife.” Today, with the original Refuge lands covered by the waters of the Salton Sea, management activities are focused on about 2,000 acres of primarily leased land. Approximately 900 acres consist of managed wetlands that support resident and migratory birds, and another 850 acres are farmed to provide forage for wintering geese and other migratory birds. Existing public uses include waterfowl hunting, fishing, wildlife observation, photography, environmental education, interpretation, and scientific research.

The Coachella Valley NWR was established in 1985 under the authorities of the Endangered Species Act of 1973 (16 U.S.C. 1534), “to conserve (A) fish or wildlife which are listed as endangered species or threatened species or (B) plants.” The 3,709-acre Refuge, which is part of the larger Coachella Valley Preserve, protects the federally listed endangered Coachella Valley milk-vetch (Astragalus lentiginosus var. coachellae) and threatened Coachella Valley fringe-toed lizard (Uma inornata), as well as other desert-dwelling species adapted to living in the sand dune habitat of the Coachella Valley. Access onto the Refuge is limited to a designated corridor for equestrian and hiking use.

Alternatives

The Draft CCP/EA identifies and evaluates three alternatives for managing the Sonny Bono Salton Sea NWR and three alternatives for managing the Coachella Valley NWR. For each Refuge, the alternative that appears to best meet the Refuge's purposes is identified as the preferred alternative. The preferred alternative for each Refuge is identified based on the analysis presented in the draft CCP/EA, and may be modified following the completion of the public comment period based on comments received from other agencies, tribal governments, nongovernmental organizations, and individuals.

For each Refuge, under Alternative A (no action alternative) current management practices would continue to be implemented over the next 15 years and no changes to the current public use programs would occur.

Alternatives for Sonny Bono Salton Sea NWR

Under Alternative B (preferred alternative), the Service would expand current habitat management activities to enhance habitat quality, particularly in managed wetlands and agricultural fields; initiate the phased restoration of shallow saline water habitat at Red Hill Bay, an area of the Salton Sea that has recently receded; implement predator management to protect nesting western gull-billed terns (Gelochelidon nilotica vanrossemi) and black skimmers (Rynchops niger); and implement an integrated pest management (IPM) plan to control invasive plants. A variety of actions are also proposed to improve existing public use facilities and provide additional opportunities for wildlife observation and photography.

Under Alternative C, the Service would implement habitat actions similar to those proposed in Alternative B. The proposals for public use in Alternative C would focus on enhancing existing facilities in Units 1 and 2, rather than providing additional public use facilities in Unit 2, as proposed in Alternative B.

Alternatives for the Coachella Valley NWR

Under Alternative B (preferred alternative), the Service would increase listed and sensitive species management and support actions, implement an IPM plan to control invasive plants; enhance the habitat quality of an old agricultural site by reintroducing appropriate native plant species; and in partnership with others develop and implement a long-term sand transport monitoring plan. Also proposed is an expanded public outreach program. Occasional guided tours of the Refuge would continue at current levels and the only public access onto the Refuge would occur on a designated trail corridor that extends along portions of the Refuge's western and northern boundary. The remainder of the Refuge would continue to be closed to the public.

Under Alternative C, the Service would expand current management to protect listed and sensitive species, implement an IPM Plan to control invasive plants, and initiate a comprehensive restoration plan for an old agricultural site on the Refuge to restore creosote bush scrub habitat. In addition, the existing public outreach program would be expanded and interpretive signs would be installed along the existing trail corridor. Occasional guided tours of the Refuge would continue at current levels and public access would continue to be limited to the existing public trail corridor. All other areas within the Refuge would remain closed to the public.

Public Meetings

The locations, dates, and times of public meetings will be listed in a planning update distributed to the project mailing list and posted on the Sonny Bono Salton Sea National Wildlife Refuge Complex public Web site at http://go.usa.gov/jbhn.

Review and Comment

Copies of the Draft CCP/EA may be obtained by contacting Victoria Touchstone (see ADDRESSES). Copies of the Draft CCP/EA may be viewed at Sonny Bono Salton Sea NWR office (see ADDRESSES for contact information) and local libraries. The Draft CCP/EA is also available for viewing and downloading online at: http://go.usa.gov/jbhn. Comments on the Draft CCP/EA should be addressed to Victoria Touchstone (see ADDRESSES).

At the end of the review and comment period for this Draft CCP/EA, comments will be analyzed by the Service and addressed in the Final CCP. Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region Sacramento, California.

[FR Doc. 2013-17770 Filed 7-22-13; 8:45 am]

BILLING CODE 4310-55-P